DEPARTMENT OF ENERGY

Federal Energy Regulatory Commission

[Project No. 13700-000]

Hydrodynamics, Inc.; Notice of Preliminary Permit Application Accepted for Filing and Soliciting Comments, Motions To Intervene, and Competing Applications

September 16, 2010.

On April 5, 2010, Hydrodynamics, Inc. filed an application for a preliminary permit, pursuant to section 4(f) of the Federal Power Act (FPA), proposing to study the feasibility of the Mill Coulee Hydroelectric Project to be located in Cascade County, Montana near Fairfield, Montana on the Mill Coulee canal, a water distribution facility of the U.S. Bureau of Reclamation's Sun River Project. The sole purpose of a preliminary permit, if issued, is to grant the permit holder priority to file a license application during the permit term. A preliminary permit does not authorize the permit holder to perform any land-disturbing activities or otherwise enter upon lands or waters owned by others without the owners' express permission.

The proposed project will consist of the following: (1) A new 3-foot-high, 20-foot-wide, one-foot-thick diversion structure with a flood gate and trash rack; (2) a 2,020-foot-long, 48-inch-diameter polyethylene penstock; (3) a 60-foot-long, 60-foot-wide powerhouse; (4) a turbine/generator unit with a capacity rating of 900 kilowatts; (5) a 3,750-foot-long clay-lined tailrace canal returning flows to the Mill Coulee canal; and (6) a 69-kilovolt, 3,400-foot-long transmission line.

Annual energy production is estimated to be 2.25 gigawatt-hours.

Applicant Contact: Roger Kirk, Hydrodynamics, Inc., 521 E. Peach, Suite 2B, Bozeman, MT 59715; phone: (406) 587-5086.

FERC Contact: Dianne Rodman; phone: (202) 502-6077.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13700-000) in the docket number field to access the document. For assistance, contact FERC Online Support.

Kimberly D. Bose,
Secretary.

[FR Doc. 2010-23682 Filed 9-21-10; 8:45 am]

BILLING CODE 6717-01-P